DEPARTMENT OF ENERGY

Southwestern Power Administration

White River Lock and Dam No. 1, 2 and 3 Hydroelectric Projects, Independence County, AR

AGENCY: Southwestern Power Administration, DOE.

ACTION: Notice of floodplain/wetland involvement.

SUMMARY: Southwestern Power Administration (Southwestern), a power marketing agency of the U.S. Department of Energy (DOE), is a cooperating federal agency with the Federal Energy Regulatory Commission (FERC) for a proposal to amend three existing hydroelectric project licenses, in Independence County, Arkansas. This amendment includes changing the route for proposed transmission line construction, and constructing an electrical substation adjacent to and partially within an existing Southwestern transmission line right-of-way. Wetland areas would be avoided to the extent practicable. Those wetlands that would be crossed will be spanned to reduce disturbances. Much of the proposed construction activity will likely occur within a 100-year floodplain of the White River. In accordance with the DOE's Floodplain/Wetland Review Requirements (10 CFR part 1022), Southwestern will prepare a floodplain/wetland impacts assessment. The proposed action will be performed in a manner so as to avoid or minimize potential harm to or within any affected floodplain/wetland.

DATES: Comments on the proposed floodplain/wetland action are due to the address below no later than Mach 21, 2002.

ADDRESSES: Comments should be addressed to Ms. Darlene Low, Manager Environmental, Safety, Health and Aviation, Southwestern Power Administration, One West Third Street, Tulsa, OK, 74103-3519, fax (918) 595-6656, e-mail Low@swpa.gov.

FOR FURTHER INFORMATION CONTACT: Mr. Robert Orr, Environmental Specialist, RMC-Consultants, Inc., 2858 S. Golden, Springfield, MO, 65808, phone (417) 891-2668, e-mail orr@swpa.gov.

SUPPLEMENTARY INFORMATION: The proposed project will involve construction activities within floodplain and wetland areas. Independence County or their representative will perform the construction. The proposed transmission line consists of approximately 20-miles of 25 kilovolt (kV) electric transmission line (single pole wood or metal structures). Construction of the proposed transmission line route will minimize forest clearing and habitat destruction through use of existing transportation corridors (e.g., railroad corridor), agricultural corridors and pasture land. Some construction activities would take place during the winter months when the ground is frozen to facilitate access in the extremely wet areas. The floodplain/wetland assessment will examine the proposed construction activities. The White River Project is located along the White River in Independence County, Arkansas. The project is located in and around the City of Batesville. The transmission would extend along the north side of the White River eastward nine miles from Lock and Dam No. 3 (Project No. 4659) to the proposed substation.

The electric substation would be located approximately two miles east of the White River Lock and Dam No. 2 (Project No. 4660), on the north side of the White River. Maps and further information are available from the Southwestern contacts identified above.

Dated: February 26, 2002.
Michael A. Deihl,
Administrator.

[FR Doc. 02-5307 Filed 3-5-02; 8:45 am]

BILLING CODE 6450-01-P